DEPARTMENT OF HEALTH AND HUMAN SERVICES

Substance Abuse and Mental Health Services Administration

Center for Substance Abuse Prevention; Notice of Meeting

Pursuant to Public Law 92-463, notice is hereby given for the meeting of the Substance Abuse and Mental Health Services Administration's (SAMHSA) Center for Substance Abuse Prevention National Advisory Council (CSAP NAC) on April 2, 2014.

The Council was established to advise the Secretary, Department of Health and Human Services (HHS); the Administrator, SAMHSA; and Center Director, CSAP concerning matters relating to the activities carried out by and through the Center and the policies respecting such activities.

The meeting will be open to the public and include discussion of prevention in the context of primary care, SAMHSA's Strategic Initiative on the Prevention of Substance Abuse and Mental Illness, communications, and CSAP program and budget developments.

To attend the public portion of the meeting onsite, submit written or brief oral comments, request special accommodations for persons with disabilities, or participate via Webcast, please register at the SAMHSA Committees' Web site, http://nac.samhsa.gov/Registration/meetingsRegistration.aspx, or communicate with the CSAP Council's Designated Federal Officer (see contact information below).

Substantive program information, a summary of the meeting, and a roster of committee members may be obtained either by accessing the SAMHSA Committee's Web site after the meeting, http://nac.samhsa.gov/, or by contacting Matthew J. Aumen. A transcript of the open portion of the meeting will also be available on the SAMHSA Web site after the meeting.

Committee Name: Substance Abuse and Mental Health Services, Administration, Center for Substance Abuse Prevention, National Advisory Council.

Date/Time/Type: April 2, 2014, from 10:00 a.m. to 4:00 p.m. EDT: (OPEN)

Place: SAMHSA, 1 Choke Cherry Road, Rock Creek Conference Room (lobby level), Rockville, MD 20857.

Contact: Matthew J. Aumen, Designated Federal Officer, SAMHSA CSAP NAC, 1 Choke Cherry Road, Rockville, MD 20857, Telephone: 240-276-2419, Fax: 240-276-2430, Email: matthew.aumen@samhsa.hhs.gov.

Cathy J. Friedman,
Public Health Analyst, SAMHSA.

[FR Doc. 2014-05003 Filed 3-6-14; 8:45 am]

BILLING CODE 4162-20-P